FEDERAL COMMUNICATIONS COMMISSION

Notice of Public Information Collection(s) Being Submitted for Review to the Office of Management and Budget

November 20, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 26, 2007. If you anticipate that you will be submitting PRA comments, but find it difficult to do so within the period of time allowed by this notice, you should advise the FCC contact listed below as soon as possible.

ADDRESSES: Direct all PRA comments to Nicholas A. Fraser, Office of Management and Budget, via e-mail to Nicholas_A._Fraser@omb.eop.gov or via fax at 202-395-5167, and to the Federal Communications Commission via e-mail to PRA@fcc.gov or by U.S. mail to Jerry Cowden, Federal Communications Commission, Room 1-B135, 445 12th Street, SW., Washington, DC 20554.

FOR FURTHER INFORMATION CONTACT: For additional information contact Jerry Cowden via e-mail at PRA@fcc.gov or at 202-418-0447. If you would like to obtain or view a copy of this information collection you may do so by visiting the FCC PRA Web page at: http://www.fcc.gov/omd/pra/collections-review.html.

SUPPLEMENTARY INFORMATION:

OMB Control No.: 3060-0957.

Title: Requests for waiver of deadline on Location-capable Handset deployment (Fourth Memorandum Opinion and Order in CC Docket No. 94-102).

Form Nos.: N/A.

Type of Review: Extension of a currently approved collection.

Respondents: Business or other for-profit, not-for-profit institutions, and state, local or tribal government.

Number of Respondents: 2,500.

Estimated Time per Response: 3 hours.

Frequency of Response: On occasion reporting requirement.

Obligation to Respond: Required to obtain or retain benefits.

Total Annual Burden: 7,500 hours.

Total Annual Cost: None.

Privacy Impact Assessment: Not applicable.

Nature and Extent of Confidentiality: No confidentiality is required for this collection.

Needs and Uses: The Commission's Fourth Memorandum Opinion and Order (FCC 00-326, CC Docket No. 94-102) sets forth guidelines for filing successful requests for waiver of E911 Phase II rules. Wireless carriers are instructed to submit waiver requests that are specific, focused and limited in scope, and with a clear path to compliance. A waiver request must specify the solutions considered and explain why none could be employed in a way that complies to the Phase II rules. If deployment must be delayed, the carrier should specify the reason for the delay and provide a revised schedule.

Federal Communications Commission.
Marlene H. Dortch,
Secretary.

[FR Doc. E7-22955 Filed 11-23-07; 8:45 am]

BILLING CODE 6712-01-P